DEPARTMENT OF THE TREASURY

Office of Foreign Assets Control

Designation of Individuals and Entities Pursuant to Executive Order 13660

AGENCY: Office of Foreign Assets Control, Treasury.

ACTION: Notice.

SUMMARY: The Department of the Treasury's Office of Foreign Assets Control (“OFAC”) is publishing the names of seventeen individuals and seven entities whose property and interests in property have been blocked pursuant to Executive Order 13660 of March 6, 2014, “Blocking Property of Certain Persons Contributing to the Situation in Ukraine.”

DATES: The designation by the Director of OFAC of the seventeen individuals and seven entities identified in this notice, pursuant to Executive Order 13660 of March 6, 2014, is effective on December 19, 2014.

FOR FURTHER INFORMATION CONTACT: Assistant Director, Sanctions, Compliance & Evaluations, Office of Foreign Assets Control, Department of the Treasury, 1500 Pennsylvania Avenue NW., (Treasury Annex), Washington, DC 20220, Tel.: 202/622-2490.

SUPPLEMENTARY INFORMATION:

Electronic and Facsimile Availability

This document and additional information concerning OFAC are available from OFAC's Web site (www.treas.gov/ofac). Certain general information pertaining to OFAC's sanctions programs is available via facsimile through a 24-hour fax-on-demand service, tel.: 202/622-0077.

Background

On March 6, 2014, President Barack Obama issued Executive Order “Blocking Property of Certain Persons Contributing to the Situation in Ukraine” (the “Order”), pursuant to, inter alia, the International Emergency Economic Powers Act (50 U.S.C. 1701 et seq.) (IEEPA), declaring a national emergency to deal with the usual and extraordinary threat to the national security and foreign policy of the United States posed by the actions and policies of persons including persons who have asserted governmental authority in the Crimean region without the authorization of the Government of Ukraine—that undermine democratic processes and institutions in Ukraine; threaten its peace, security, stability, sovereignty, and territorial integrity; and contribute to the misappropriation of its assets.

Section 1 of the Order blocks, with certain exceptions, all property and interests in property that are in, or thereafter come within, the United States, or within the possession or control of United States persons, as well as those persons determined by the Secretary of the Treasury, after consultation with the Secretary of State, to meet any of the criteria set forth in subparagraphs (a)(i)-(v) of Section 1 of the Order.

On December 19, 2014, the Director of OFAC exercised the Secretary of the Treasury's authority to designate, pursuant to one or more of the criteria set forth in Section 1 of the Order, the seventeen individuals and seven entities listed below, whose property and interests in property therefore are blocked pursuant to the Order.

The listings of the blocked individuals and entities appear as follows:

Individuals

1. ANTYUFEYEV, Vladimir (a.k.a. ALEXANDROV, Vladimir Gheorghievici; a.k.a. ANTIUFEEV, Vladimir Iurievici; a.k.a. ANTIUFEYEV, Vladimir; a.k.a. ANTYUFEYEV, Vladimir Yuryevich; a.k.a. SHEVTSOV, Vadim; a.k.a. SHEVTSOV, Vadim Gheorghievici; a.k.a. SHEVTSOV, Vladimir); DOB 19 Feb 1951; POB Novosibirsk, Russia (individual) [UKRAINE-EO13660].

2. BEREZIN, Fedor (a.k.a. BEREZIN, Fyodor; a.k.a. BEREZIN, Fyodor Dmitrievich); DOB 07 Feb 1960; POB Donetsk, Ukraine (individual) [UKRAINE-EO13660].

3. BEZLER, Igor Nikolayevich (a.k.a. BEZLER, Igor; a.k.a. BEZLER, Igor Mykolaiovych; a.k.a. BEZLER, Ihor); DOB 1965 (individual) [UKRAINE-EO13660].

4. GUBAREV, Pavel (a.k.a. HUBARYEV, Pavlo); DOB 10 Feb 1983; POB Sievierodonetsk, Ukraine (individual) [UKRAINE-EO13660].

5. KARYAKIN, Alexei Vyacheslavovich (a.k.a. KARIAKIN, Aleksey; a.k.a. KARYAKIN, Aleksey; a.k.a. KARYAKIN, Alexei); DOB 07 Apr 1980; POB Stahanov, Luhansk Oblast, Ukraine (individual) [UKRAINE-EO13660].

6. KHRYAKOV, Alexander (a.k.a. KHRYAKOV, Aleksandr Vitaliyovych; a.k.a. KHRYAKOV, Alexander Vitaliyovych; a.k.a. KHRYAKOV, Alexandr; a.k.a. KHRYAKOV, Oleksandr; a.k.a. KHRYAKOV, Oleksandr Vitaliyovych), Donetsk, Ukraine; DOB 06 Nov 1958; POB Donetsk, Ukraine (individual) [UKRAINE-EO13660].

7. KOZITSYN, Nikolai (a.k.a. KOZITSYN, Mykola; a.k.a. KOZITSYN, Mykola Ivanovych; a.k.a. KOZITSYN, Nikolay); DOB 20 Jun 1956; POB Donetsk Region; citizen Russia (individual) [UKRAINE-EO13660].

8. MALOFEYEV, Konstantin (a.k.a. MALOFEEV, Konstantin Valerevich; a.k.a. MALOFEEV, Konstantin Valerievich); DOB 03 Jul 1974; POB Pushchino, Moscow, Russia; Managing Partner of Marshall Capital Partners (individual) [UKRAINE-EO13660] (Linked To: MARSHALL CAPITAL PARTNERS).

9. MOZGOVOY, Aleksey (a.k.a. MOZGOVOI, Aleksei; a.k.a. MOZGOVOI, Alexei; a.k.a. MOZGOVOI, Oleksiy; a.k.a. MOZGOVOY, Aleksei; a.k.a. MOZGOVOY, Alexei; a.k.a. MOZGOVOY, Oleksiy; a.k.a. MOZGOVY, Aleksei; a.k.a. MOZGOVY, Oleksiy; a.k.a. MOZHOVVY, Oleksiy; a.k.a. MOZHOVY, Aleksei; a.k.a. MOZHOVY, Oleksiy; a.k.a. MOZHOVYY, Aleksei), Luhansk, Ukraine; DOB 03 Apr 1975; POB Nyzhnya Duvanka, Ukraine (individual) [UKRAINE-EO13660].

10. NEKLYUDOV, Dmitry Sergeyevich (a.k.a. NEKLYUDOV, Dmitriy Sergeyevich); DOB 17 Feb 1969; POB Simferopol, Ukraine (individual) [UKRAINE-EO13660].

11. PLOTNITSKY, Igor Venediktovich (a.k.a. PLOTNITSKY, Igor); DOB 24 Jun 1964; POB Kelmentsi, Ukraine (individual) [UKRAINE-EO13660].

12. POKLONSKAYA, Natalia Vladimirovna (a.k.a. POKLONSKA, Natalya; a.k.a. POKLONSKAYA, Natalia; a.k.a. POKLONSKAYA, Natalya); DOB 18 Mar 1980; POB Eupatoria, Ukraine; Prosecutor of Crimea (individual) [UKRAINE-EO13660].

13. RUDENKO, Miroslav Vladimirovich (a.k.a. RUDENKO, Miroslav; a.k.a. RUDENKO, Myroslav), Donetsk, Ukraine; DOB 21 Jan 1983; alt. DOB 1983; POB Debaltsevo, Donetsk Region, Ukraine (individual) [UKRAINE-EO13660].

14. SAVCHENKO, Petr (a.k.a. SAVCHENKO, Peter; a.k.a. SAVCHENKO, Peter A.; a.k.a. SAVCHENKO, Petro Oleksiiovych), Makeyevka, Ukraine; DOB 23 Feb 1968 (individual) [UKRAINE-EO13660] (Linked To: PROFAKTOR, TOV).

15. TSARYOV, Oleh Anatolievich (a.k.a. TSAREV, Oleg; a.k.a. TSARIOV, Oleh; a.k.a. TSAROV, Oleg; a.k.a. TSARYOV, Oleh), Stari Kodaky, Dnepropetrovsk Oblast, Ukraine; DOB 02 Jun 1970; POB Dnepropetrovsk, Ukraine (individual) [UKRAINE-EO13660].

16. ZAKHARCHENKO, Alexander; DOB 1976; POB Donetsk, Ukraine (individual) [UKRAINE-EO13660].

17. ZALDOSTANOV, Aleksandr (a.k.a. ZALDASTANOV, Aleksandr Sergeevich; a.k.a. ZALDOSTANOV, Alexander; a.k.a. ZALDOSTANOV, Alexander Sergeyevich; a.k.a. “Khirurg”; a.k.a. “The Surgeon”); DOB 19 Jan 1963; POB Kirovograd, Ukraine (individual) [UKRAINE-EO13660].

Entities

1. DONBASS PEOPLE'S MILITIA (a.k.a. PEOPLE'S MILITIA OF DONBASS), Prospect Zasyadko.13, Donetsk, Ukraine; Email Address voenkom.dnr@mail.ru; alt. Email Address mobilisation@novorossia.co; alt. Email Address novoross24@mail.ru [UKRAINE-EO13660].

2. MARSHALL CAPITAL PARTNERS (a.k.a. MARSHALL CAPITAL), 5th Floor, Novinsky Passage Business Center, 31 Novinsky Boulevard, Moscow 123242, Russia; Web site www.marcap.ru; Email Address info@marcap.ru [UKRAINE-EO13660].

3. NIGHT WOLVES (a.k.a. MOLODEZHNAYA AVTONOMNAYA NEKOMMERCHESKAYA ORGANIZATSIYA NOCHNYE VOLKI; a.k.a. NOCHNIYE VOLKI; a.k.a. NOCHNYE VOLKI), Nizhnije Mnevniki, 110 “Bike Center”, Moscow, Russia; 110 Nizhniye Mnevniki, Moscow, Russia; 110 Nizhnie Mnevniki Ul., Moscow 123423, Russia; Registration ID 1037717009846; Government Gazette Number 14188237 [UKRAINE-EO13660].

4. NOVOROSSIYA PARTY (a.k.a. NEW RUSSIA PARTY), Ukraine [UKRAINE-EO13660].

5. OPLOT, Donetsk, Ukraine; Kharkiv, Ukraine [UKRAINE-EO13660].

6. PROFAKTOR, TOV (a.k.a. PROFAKTOR, LLC), Bud, 22/28, vul. Dzerzhynskogo, Makiivka 86100, Ukraine; Makeevka str., Donetsk Region 86157, Ukraine; Government Gazette Number 32084605 [UKRAINE-EO13660].

7. SOUTH-EAST MOVEMENT (a.k.a. SOUTHEAST MOVEMENT; a.k.a. YUGO-VOSTOK MOVEMENT), Ukraine [UKRAINE-EO13660].

Dated: December 19, 2014.
John E. Smith,
Acting Director, Office of Foreign Assets Control.

[FR Doc. 2015-02483 Filed 2-5-15; 8:45 am]

BILLING CODE 4810-AL-P